DEPARTMENT OF JUSTICE

Notice Lodging of Proposed Consent Decree Under the Clean Air Act

On October 28, 2014, the Department of Justice lodged a proposed consent decree with the United States District Court for the Northern District of Ohio in the lawsuit entitled United States v. Ross Incineration Services, Inc., Civil Action No. 12-01441.

The United States filed this lawsuit under the Clean Air Act. The United States' complaint seeks injunctive relief and civil penalties for violations of various provisions of the National Emission Standards for Hazardous Air Pollutants from Hazardous Waste Combustors at defendant's hazardous waste incinerator in Grafton, Ohio. The consent decree requires the defendant to perform injunctive relief and pay a civil penalty of $400,000.

The publication of this notice opens a period for public comment on the proposed consent decree. Comments should be addressed to the Assistant Attorney General, Environment and Natural Resources Division, and should refer to United States v. Ross Incineration Services, Inc., D.J. Ref. No. 90-5-2-1-10042. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department Web site: http://www.usdoj.gov/enrd/Consent_Decrees.html. We will provide a paper copy of the proposed consent decree upon written request and payment of reproduction costs. Please mail your request and payment to:

Consent Decree Library, U.S. DOJ-ENRD, P.O. Box 7611, Washington, DC 20044-7611.

Please enclose a check or money order for $8.25 (25 cents per page reproduction cost) payable to the United States Treasury.

Maureen Katz,
Assistant Section Chief, Environmental Enforcement Section, Environment and Natural Resources Division.

[FR Doc. 2014-26001 Filed 10-31-14; 8:45 am]

BILLING CODE 4410-15-P